NUCLEAR REGULATORY COMMISSION

Advisory Committee on Nuclear Waste; Revised

The agenda for the 149th meeting of the Advisory Committee on Nuclear Waste (ACNW) scheduled for April 20-22, 2004, 11545 Rockville Pike, Rockville, Maryland, has been revised to include a presentation on the Scientific and Technical Priorities at Yucca Mountain on Wednesday, April 21, 2004, as follows:

4 p.m.-5 p.m.: Scientific and Technical Priorities at Yucca Mountain (Open)—The Committee will hear presentations by and hold discussions with representatives of the Electric Power Research Institute regarding their December 2003 report on scientific and technical priorities at Yucca Mountain.

All other items pertaining to this meeting remain the same as previously published in the Federal Register on Thursday, April 1, 2004 (69 FR 17243).

For further information, contact Mr. Howard J. Larson, Special Assistant, ACNW, (Telephone: 301-415-6805), between 7:30 a.m. and 4:15 p.m., ET.

Dated: April 7, 2004.
J. Samuel Walker,
Acting Secretary of the Commission.

[FR Doc. 04-8285 Filed 4-12-04; 8:45 am]

BILLING CODE 7590-01-P